DEPARTMENT OF THE INTERIOR

National Park Service

Extension of Expiring Contracts Up to One Year

AGENCY: National Park Service, Interior.

ACTION: Public notice.

SUMMARY: Pursuant to 36 CFR 51.23, public notice is hereby given that the National Park Service proposes to extend the following expiring concession contracts for a period of up to one year.

Concessioner identification No. | Concessioner name | Park
ANIA903 | Katmai Guide Service | Aniakchak National Monument and Preserve
ANIA904 | King Guiding Service | Aniakchak National Monument and Preserve
ANIA906 | Cinder River Lodge | Aniakchak National Monument and Preserve
ACAD001 | The Acadia Corp. | Acadia National Park
AMIS002 | Lake Amistad Resort & Marina | Amistad National Recreation Area
AMIS003 | Rough Canyon Marina, 1144 | Amistad National Recreation Area
BADL001 | Oglala Sioux Tribe (Cedar Pass Lodge) | Badlands National Park
BAND001 | Bandelier Trading, Inc. | Bandelier National Monument
BEOL001 | Bent's Old Fort Historical Assn. | Bent's Old Fort National Historic Site
BICA003 | Horseshoe Bend Marina | Bighorn Canyon National Recreation Area
BICA007 | Lucon Corp. | Bighorn Canyon National Recreation Area
BISC002 | Biscayne National Underwater Park Co | Biscayne National Park
BISO001 | LeConte Lodge Limited Partnership | Big South Fork National Recreation Area
BLCA001 | Rim House | Black Canyon of the Gunnison National Monument
BLRI001 | Southern Highland Handicraft Guild | Blue Ridge Parkway
CACA001 | The Cavern Supply Co., Inc. | Carlsbad Caverns National Park
CACO003 | Town of Truro | Cape Cod National Seashore
CACO004 | Charles W. Silva | Cape Cod National Seashore
CAHA001 | Avon-Thornton Limited Partnership | Cape Hatteras National Seashore
CAHA002 | Cape Hatteras Fishing Pier, Inc. | Cape Hatteras National Seashore
CAHA004 | Oregon Inlet Fishing Center, Inc. | Cape Hatteras National Seashore
CALO003 | Morris Marina, Kabin Kamps & Ferry Service | Cape Lookout National Seashore
CALO005 | Alger G. Willis Fishing Camps, Inc | Cape Lookout National Seashore
CANY024 | Tag-A-Long Tours, Ltd. | Canyonlands National Park
CANY025 | Lin Ottinger Tours | Canyonlands National Park
CANY026 | Tag-A-Long Tours, Ltd. | Canyonlands National Park
CANY027 | Tex's Riverways | Canyonlands National Park
CANY031 | Holiday River Expeditions, Inc. | Canyonlands National Park
CANY032 | Kaibab Mountain Bike Tours | Canyonlands National Park
CANY033 | Nichols Expeditions, Inc. | Canyonlands National Park
CANY034 | Rim Tours | Canyonlands National Park
CANY035 | Western Spirit Cycling, Inc. | Canyonlands National Park
CHAT001 | Chattahoochee Outdoor Center, Inc | Chattahoochee River National Recreation Area
CHIS002 | Channel Islands Aviation, Inc. | Channel Islands National Park
CHOH001 | Fletcher's Boat House, Inc. | Chesapeake & Ohio Canal National Historical Park
COLM001 | Colorado National Monument Assn | Colorado National Monument
COLO001 | Yorktown Shoppe | Colonial National Historical Park
COLO003 | Period Designs | Colonial National Historical Park
CRMO001 | Craters of the Moon Natural History Assn | Craters of the Moon National Monument
CUIS001 | Lang Seafood, Inc. | Cumberland Island National Seashore
CURE001 | Elk Creek Marina, Inc. | Curecanti National Recreation Area
DENA005 | Rainier Mountaineering, Inc. | Denali National Park and Preserve
DENA006 | Mountain Trip, Inc. | Denali National Park and Preserve
DENA008 | Alaska-Denali Guiding | Denali National Park and Preserve
DENA009 | Fantasy Ridge Alpinism, Inc. | Denali National Park and Preserve
DENA010 | American Alpine Institute | Denali National Park and Preserve
DENA011 | National Outdoor Leadership School | Denali National Park and Preserve
DENA013 | Wallace and Jerryne Cole (Camp Denali and North Face Lodge) | Denali National Park and Preserve
DENA015 | Kantishna Roadhouse Company | Denali National Park and Preserve
DENA016 | Denali Backcountry Lodge, Inc. | Denali National Park and Preserve
DENA901 | Alaska Remote Guide Service | Denali National Park and Preserve
DENA904 | Kichatna Guide Service | Denali National Park and Preserve
DEVA001 | Amfac Hotels & Resorts, Inc. | Death Valley National Monument
DEVA002 | Amfac Hotels & Resorts, Inc. | Death Valley National Monument
DEWA002 | Dingman's Campground | Delaware Water Gap National Recreation Area
DINO010 | Faron & Wayne Wilkins | Dinosaur National Monument
EVER002 | Everglades National Park Boat Tours, Inc | Everglades National Park
FIIS001 | Howard T. Rose | Fire Island National Seashore
FIIS004 | Davis Park Ferry | Fire Island National Seashore
FOMC001 | Evelyn Hill, Inc. | Fort McHenry National Monument and Historic Site
GAAR001 | Richard Guthrie, Reg. Guide | Gates of the Arctic National Park and Preserve
GAAR002 | Highlander Guide Service | Gates of the Arctic National Park and Preserve
GATE001 | Jamaica Bay Riding Academy | Gateway National Recreation Area
GATE002 | Shields & Dean (Jamaica Bay) | Gateway National Recreation Area
GATE005 | Beverly Parking, Inc. | Gateway National Recreation Area
GATE013 | Shields & Dean (Riis Park) | Gateway National Recreation Area
GETT001 | Gettysburg Tours, Inc. | Gettysburg National Military Park
GLAC001 | Glacier Park Boat Company, Inc. | Glacier National Park
GLAC003 | Mule Shoe Outfitters, Inc. | Glacier National Park
GLAC004 | Glacier Wilderness Guides (Interim) | Glacier National Park
GLAC004A | Belton Chalets | Glacier National Park
GLAC006 | Glacier Wilderness Guides, Inc. | Glacier National Park
GLAC010 | Edward Desrosier, dba Sun Tours | Glacier National Park
GLBA008 | Alaska Discovery, Inc. | Glacier Bay National Park and Preserve
GLBA016 | Grand Pacific Charters | Glacier Bay National Park and Preserve
GLBA009 | Alaska Discovery, Inc. | Glacier Bay National Park and Preserve
GLBA010 | Gary C. Gray, Reg. Guide | Glacier Bay National Park and Preserve
GLBA011 | Chilkat Guides | Glacier Bay National Park and Preserve
GLBA012 | Colorado River/Trail Exp., Inc. | Glacier Bay National Park and Preserve
GLBA013 | James Henry River Journeys | Glacier Bay National Park and Preserve
GLBA014 | Mountain Travel/Sobek | Glacier Bay National Park and Preserve
GLBA015 | Chicagaof Charters | Glacier Bay National Park and Preserve
GLBA017 | Wilderness River Outfitters | Glacier Bay National Park and Preserve
GLBA018 | Glacier Guides | Glacier Bay National Park and Preserve
GLBA019 | Marine Adventure Sailing Tours | Glacier Bay National Park and Preserve
GLBA021 | Seawind Charters | Glacier Bay National Park and Preserve
GLBA025 | Princeton Hall, Ltd. | Glacier Bay National Park and Preserve
GLBA026 | Lisianski Charters | Glacier Bay National Park and Preserve
GLBA027 | Gustavus Marine Charters | Glacier Bay National Park and Preserve
GLBA028 | Elfin Cove Sportfishing Lodge | Glacier Bay National Park and Preserve
GLBA030 | Dolphin Charters | Glacier Bay National Park and Preserve
GLBA031 | Glacier Bay Country Inn | Glacier Bay National Park and Preserve
GLBA032 | Sea Wolf Wilderness Adventures | Glacier Bay National Park and Preserve
GLBA033 | Gary C. Gray, Reg. Guide | Glacier Bay National Park and Preserve
GLBA035 | Glacier Bay Sea Kayaks | Glacier Bay National Park and Preserve
GLBA037 | Clipper Cruise Line | Glacier Bay National Park and Preserve
GLBA038 | Special Expeditions | Glacier Bay National Park and Preserve
GLBA039 | Alaska Sightseeing/Cruise West | Glacier Bay National Park and Preserve
GLBA041 | Glacier Bay Park Concessions | Glacier Bay National Park and Preserve
GLBA901 | Gary C. Gray, Reg. Guide | Glacier Bay National Park and Preserve
GLBA902 | John H. Latham, Reg. Guide | Glacier Bay National Park and Preserve
GLBA044 | Glacier Bay Adventures | Glacier Bay National Park and Preserve
GLCA001 | Wilderness River Adventures, Inc. | Glen Canyon National Recreation Area
GLCA003 | ARAMARK (Wahweap Lodge & Marina) | Glen Canyon National Recreation Area
GLCA017 | Arizona Dept. of Economic Security | Glen Canyon National Recreation Area
GLCA021 | Samaritan Health System | Glen Canyon National Recreation Area
GOGA001 | Blue & Gold Fleet, L.P. | Golden Gate National Recreation Area
GOGA002 | Council of American Youth Hostels (Fort Mason) | Golden Gate National Recreation Area
GOGA003 | Council of American Youth Hostels (Fort Barry) | Golden Gate National Recreation Area
GOGA004 | Park Host | Golden Gate National Recreation Area
GOGA006 | Giant Camera | Golden Gate National Recreation Area
GOGA008 | Louis' Restaurant | Golden Gate National Recreation Area
GOSP001 | McFarland Distributing | Golden Spike National Historic Site
GRCA004 | Grand Canyon Trail Rides | Grand Canyon National Park
GRCA005 | Verkamps, Inc. | Grand Canyon National Park
GRSA002 | The Oasis | Great Sand Dunes National Monument
GRSM001 | Cades Cove Campground Store, Inc | Great Smoky Mountains National Park
GRSM004 | Cades Cove Riding Stables, Inc. | Great Smoky Mountains National Park
GRSM006 | McCarter's Riding Stables, Inc. | Great Smoky Mountains National Park
GRSM007 | Smokemont Riding Stables of N.C., Inc | Great Smoky Mountains National Park
GRSM008 | Smoky Mountain Riding Stables, Inc | Great Smoky Mountains National Park
GRSM010 | Great Smoky Mountains Natural History Assn | Great Smoky Mountains National Park
GRTE003 | Rex G. & Ruth G. Maughan (Signal Mountain Lodge) | Grand Teton National Park
GRTE009 | Exum Mountain Guide Service | Grand Teton National Park
GRTE012 | Jackson Hole Mountain Guides, Inc | Grand Teton National Park
GRTE041 | Jackson Hole Trail Rides | Grand Teton National Park
GUIS001 | Dudley Food & Beverage, Inc. | Gulf Islands National Seashore
GUIS003 | Pan Isles, Inc. | Gulf Islands National Seashore
GWMP003 | Belle Haven Marina, Inc. | George Washington Memorial Parkway
HAVO002 | Hawaii Natural History Assn. | Hawaii Volcanoes National Park
HOSP001 | City of Hot Springs Advertising And Promotions Comm | Hot Springs National Park
HOSP004 | Libbey Memorial Physical Medicine Center | Hot Springs National Park
IMFA001 | Southwest Parks and Monuments Assn | Multiple parks within Intermountain Region
INDU003 | LaPorte Co. Sheltered Workshop | Indiana Dunes National Recreation Area
ISRO001 | The Royale Line, Inc. | Isle Royale National Park
ISRO006 | Isle Royale Seaplane Service, Inc. | Isle Royale National Park
ISRO007 | Grand Portage-Isle Royale Transportation, Line | Isle Royale National Park
JEFF002 | Jefferson National Expansion Historical Assn. | Jeffferson National Expansion Memorial
JODR003 | Cache Creek Snowmobile Tours | John D. Rockefeller Memorial Parkway
JODR004 | Heart 6 Snowmobile Tours | John D. Rockefeller Memorial Parkway
JODR005 | Hidden Basin dba Old Faithful Snowmobile Tours | John D. Rockefeller Memorial Parkway
JODR006 | High Country Snowmobile Tours | John D. Rockefeller Memorial Parkway
JODR007 | Mountain High Adventures | John D. Rockefeller Memorial Parkway
JODR008 | Best Adventures | John D. Rockefeller Memorial Parkway
JODR009 | Jackson Hole Snowmobile Tours | John D. Rockefeller Memorial Parkway
JODR010 | National Park Adventures, Inc. | John D. Rockefeller Memorial Parkway
JODR012 | Togwotee Mountain Lodge | John D. Rockefeller Memorial Parkway
JODR013 | Rocky Mountain Tours | John D. Rockefeller Memorial Parkway
JODR014 | Yellowstone Snowmobile Tours | John D. Rockefeller Memorial Parkway
KALA001 | Molokai Mule Ride, Inc. | Kalaupapa National Historical Park
KATM901 | Rainbow River Lodge | Katmai National Park and Preserve
KATM902 | King Guiding Service | Katmai National Park and Preserve
LABE001 | Lava Beds Natural History Assn. | Lava Beds National Monument
LAME001 | Forever Resorts, Inc. (Cottonwood Cove Resort) | Lake Mead National Recreation Area
LAME002 | Lakeshore Trailer Village | Lake Mead National Recreation Area
LAME003 | Seven Resorts, Inc. (Lake Mead Resort) | Lake Mead National Recreation Area
LAME005 | Forever Resorts, Inc. (Callville Bay Resort) | Lake Mead National Recreation Area
LAME006 | Las Vegas Boat Harbor, Inc. | Lake Mead National Recreation Area
LAME008 | Overton Beach Resort | Lake Mead National Recreation Area
LAME010 | Seven Resorts, Inc. (Echo Bay Resort) | Lake Mead National Recreation Area
LAME014 | Black Canyon, Inc. | Lake Mead National Recreation Area
LAMR002 | Marina at Lake Meredith | Lake Meredith National Recreation Area
MACA001 | Miss Green River Boat Concession, Inc | Mammoth Cave National Park
MEVE002 | Mesa Verde Museum Assn. | Mesa Verde National Park
MORA004 | John P. Squires | Mount Rainier National Park
MORU001 | Amfac Recreational Services, Inc. | Mount Rushmore National Memorial
MUWO001 | ARAMARK Leisure Services, Inc. | Muir Woods National Monument
NATR001 | Little Mountain Service Center, Inc | Natchez Trace Parkway
NATR004 | Craftsmen's Guild of Mississippi, Inc | Natchez Trace Parkway
OLYM001 | ARAMARK Corp. | Olympic National Park
OLYM005 | Crescent West, Inc. | Olympic National Park
OLYM008 | Langsen L.L.C. | Olympic National Park
OLYM048 | Wildwater River Tours | Olympic National Park
OLYM057 | Olympic Raft & Guide Service | Olympic National Park
OZAR001 | Alley Spring Canoe Rental | Ozark National Scenic Riverways
OZAR012 | Akers Ferry Canoe Rental, Inc. | Ozark National Scenic Riverways
OZAR015 | Big Spring Lodge | Ozark National Scenic Riverways
OZAR037 | Akers Ferry Tube Rental, Inc. | Ozark National Scenic Riverways
PAIS001 | Padre Island Park Company | Padre Island National Seashore
PEFO001 | Amfac | Petrified Forest National Park
PORE001 | Drakes Beach Snack Bar | Point Reyes National Seashore
PORE002 | Five Brooks Stables | Point Reyes National Seashore
PRWI001 | Prince William Travel Trailer Village, Inc | Prince William Forest Park
REDW001 | American Youth Hostels, Inc. | Redwoods National Park
ROCR003 | Golf Course Specialists, Inc. | Rock Creek Park
ROLA003 | Ross Lake Resort, Inc. | Ross Lake National Recreation Area
ROMO001 | Rex G. & Ruth G. Maughan (Trail Ridge Store) | Rocky Mountain National Park
ROMO002 | Hi Country Stables, Inc. | Rocky Mountain National Park
ROMO003 | Colorado Mountain School | Rocky Mountain National Park
ROMO005 | Rocky Mountain Nature Assn. | Rocky Mountain National Park
ROMO007 | Sun Valley Guest Ranch | Rocky Mountain National Park
ROMO008 | Wild Basin Lodge | Rocky Mountain National Park
ROMO009 | Meeker Park Lodge | Rocky Mountain National Park
ROMO010 | Silver Lane Enterprises | Rocky Mountain National Park
ROMO011 | YMCA of the Rockies | Rocky Mountain National Park
ROMO012 | Aspen Lodge and Guest Ranch Livery | Rocky Mountain National Park
ROMO013 | Wind River Ranch | Rocky Mountain National Park
ROMO016 | National Park Village Livery | Rocky Mountain National Park
ROMO017 | Sombrero Ranches, Inc. | Rocky Mountain National Park
ROMO018 | Winding River Resort Village Campground | Rocky Mountain National Park
ROMO019 | Cheley Colorado Camp | Rocky Mountain National Park
ROMO021 | Lane Guest Ranch | Rocky Mountain National Park
ROMO022 | Mountain Prairie Girl Scout Council | Rocky Mountain National Park
SAAN001 | Los Compadres de San Antonio | San Antonio Missions National Historical Park
SERO001 | Eastern National Parks & Monuments Assn | Various parks within the Southeast Region
SLBE005 | Manitou Island Transit | Sleeping Bear Dunes National Lakeshore
SLBE008 | Blough Firewood | Sleeping Bear Dunes National Lakeshore
TICA001 | Carl J. & Betsy R. Wagner | Timpanogos Cave National Monument
USAR001 | Division of Vocational Rehabilitation | U.S.S. Arizona Memorial
WHIS001 | Oak Bottom Marina | Whiskeytown-Shasta-Trinity National Recreation Area
WICA001 | State of South Dakota, Dept. of Human Resources | Wind Cave National Park
WRBR001 | Kitty Hawk Aero Tours, Inc. | Wright Brothers National Monument
YELL002 | Hamilton Stores, Inc. | Yellowstone National Park
YELL102 | Beardsley Outfitting and Guiding Service | Yellowstone National Park
YELL103 | Triangle X Ranch | Yellowstone National Park
YELL104 | Horse Creek Ranch | Yellowstone National Park
YELL105 | Bear Paw Outfitters | Yellowstone National Park
YELL106 | Jackson Hole Llamas | Yellowstone National Park
YELL107 | Wyoming Wilderness Outfitters | Yellowstone National Park
YELL108 | Fox Creek Pack Station | Yellowstone National Park
YELL110 | Diamond J Ranch | Yellowstone National Park
YELL113 | 7D Ranch | Yellowstone National Park
YELL114 | Wilderness Connection | Yellowstone National Park
YELL115 | Gary Fales Outfitting | Yellowstone National Park
YELL116 | Rimrock Ranch | Yellowstone National Park
YELL117 | Mountain Trails Outfitters | Yellowstone National Park
YELL118 | Yellowstone Mountain Guides | Yellowstone National Park
YELL120 | Slough Creek Outfitters | Yellowstone National Park
YELL121 | Yellowstone Llamas | Yellowstone National Park
YELL122 | Sheep Mesa Outfitters | Yellowstone National Park
YELL123 | Castle Creek Outfitters & Guide Service | Yellowstone National Park
YELL124 | Jake's Horses | Yellowstone National Park
YELL125 | Big Bear Lodge, Inc. | Yellowstone National Park
YELL126 | Heimer Outfitting | Yellowstone National Park
YELL127 | Medicine Lake Outfitters | Yellowstone National Park
YELL128 | North Yellowstone Outfitters | Yellowstone National Park
YELL130 | Skyline Guest Ranch | Yellowstone National Park
YELL131 | Hell's A Roarin’ Outfitters | Yellowstone National Park
YELL132 | Nine Quarter Circle Ranch | Yellowstone National Park
YELL134 | John Henry Lee Outfitters | Yellowstone National Park
YELL135 | Linn Brothers Outfitting | Yellowstone National Park
YELL137 | Wilderness Pack Trips | Yellowstone National Park
YELL138 | Rendevous Outfitters | Yellowstone National Park
YELL139 | Triple Tree Ranch | Yellowstone National Park
YELL140 | Black Otter Guide Service | Yellowstone National Park
YELL141 | Lost Fork Ranch | Yellowstone National Park
YELL142 | JR Outfitting & Guide Service | Yellowstone National Park
YELL144 | Lone Mountain Ranch | Yellowstone National Park
YELL145 | Thorofare Outfitting | Yellowstone National Park
YELL146 | K Bar Z Guest Ranch | Yellowstone National Park
YELL147 | Press Stephens | Yellowstone National Park
YELL148 | Teton Ridge Ranch | Yellowstone National Park
YELL149 | Tom Toolson | Yellowstone National Park
YELL150 | Buffalo Horn Outfitters | Yellowstone National Park
YELL152 | Crossbow Outfitters | Yellowstone National Park
YELL154 | Star Valley Llama | Yellowstone National Park
YELL156 | John R. Winter Outfitter & Guide | Yellowstone National Park
YELL157 | Beartooth Plateau Outfitters | Yellowstone National Park
YELL158 | Wilderness Trails | Yellowstone National Park
YELL159 | Bear Track Outfitters | Yellowstone National Park
YELL160 | MJ Outfitters | Yellowstone National Park
YELL162 | Grizzly Ranch | Yellowstone National Park
YELL163 | Bar Diamond G | Yellowstone National Park
YELL164 | Gallatin Way Ranch | Yellowstone National Park
YELL165 | Gunsel Horse Adventures | Yellowstone National Park
YELL166 | Elkhorn Ranch | Yellowstone National Park
YELL168 | Llamas of West Yellowstone | Yellowstone National Park
YELL169 | Shoshone Lodge Outfitters | Yellowstone National Park
YELL170 | Diamond K Outfitters | Yellowstone National Park
YELL171 | Swift Creek Outfitters | Yellowstone National Park
YELL300 | Yellowstone Expeditions | Yellowstone National Park
YELL301 | Moonlight Enterprises | Yellowstone National Park
YELL302 | Yellowstone Tour and Travel | Yellowstone National Park
YELL303 | Yellowstone Alpen Guides | Yellowstone National Park
YELL304 | International Leisure Hosts | Yellowstone National Park
YELL400 | Ace Snowmobile Rentals | Yellowstone National Park
YELL401 | Gary Fales Outfitting | Yellowstone National Park
YELL402 | Backcountry Adventures | Yellowstone National Park
YELL403 | Yellowstone Arctic-Yamaha | Yellowstone National Park
YELL404 | Loomis Enterprises, Inc. | Yellowstone National Park
YELL405 | Pahaska Tepee | Yellowstone National Park
YELL406 | Yellowstone Adventures | Yellowstone National Park
YELL407 | Targhee Snowmobile Tours | Yellowstone National Park
YELL408 | Two Top Snowmobile Rental, Inc. | Yellowstone National Park
YELL409 | Three Bears Lodge, Inc. | Yellowstone National Park
YOSE006 | Robert F. & John D. Bevington | Yosemite National Park
YUCH001 | E.A. Adventures | Yukon-Charley Rivers National Preserve.
ZION001 | Bryce/Zion Trail Rides | Zion National Park

EFFECTIVE DATE: January 2, 2001.

FOR FURTHER INFORMATION CONTACT: Cynthia Orlando, Concession Program Manager, National Park Service, Washington, DC, 20240, Telephone (202) 565-1210.

SUPPLEMENTARY INFORMATION: All of the listed concession authorizations will expire by their terms on or before December 31, 2000. The National Park Service has determined that the proposed short-term extensions are necessary in order to avoid interruption of visitor services and has taken all reasonable and appropriate steps to consider alternatives to avoid such interruption. These extensions will allow the National Park Service to complete and issue prospectuses leading to the competitive selection of concessioners for new longer-term concession contracts covering these operations.

Dated: November 22, 2000.
Cynthia Orlando,
Acting Associate Director, Park Operations and Education.

[FR Doc. 00-30657 Filed 11-30-00; 8:45 am]

BILLING CODE 4310-70-P